DEPARTMENT OF HEALTH AND HUMAN SERVICES

Centers for Medicare & Medicaid Services

42 CFR Part 411

Exclusions from Medicare and Limitations on Medicare Payment

CFR Correction

In Title 42 of the Code of Federal Regulations, Parts 400 to 413, revised as of October 1, 2009, on page 475, in § 411.357, paragraph (a)(5)(ii) is revised and the second paragraph (a)(6) is removed.

The revised text is set forth to read as follows;

§ 411.357 Exceptions to the referral prohibition related to compensation arrangements.

* * * * *

(a) * * *

(5) * * *

(ii) Using a formula based on—

(A) A percentage of the revenue raised, earned, billed, collected, or otherwise attributable to the services performed or business generated in the office space; or

(B) Per-unit of service rental charges, to the extent that such charges reflect services provided to patients referred by the lessor to the lessee.

* * * * *

[FR Doc. 2010-23179 Filed 9-14-10; 8:45 am]

BILLING CODE 1505-01-D